DEPARTMENT OF ENERGY

Federal Energy Regulatory Commission

[Docket No. RP03-389-002]

Tennessee Gas Pipeline Company; Notice of Compliance Filing

July 3, 2003.

Take notice that on June 30, 2003, Tennessee Gas Pipeline Company (Tennessee), tendered for filing as part of its FERC Gas Tariff, Fifth Revised Volume No. 1, 2nd Sub Thirteenth Revised Sheet No. 412 and Sub Second Revised Sheet No. 412A, to become effective July 1, 2003.

Tennessee states that the tariff sheets are being filed in compliance with the Federal Energy Regulatory Commission's June 20, 2003 order on Tennessee's Order No. 587-R compliance filing, requiring Tennessee to incorporate the Wholesale Gas Quadrant's (WGQ) Standards 1.4.4, 5.4.1, 5.4.3, 5.4.4, 5.4.7 and 5.4.9 by reference to Version 1.6.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 14, 2003.

Linda Mitry,
Acting Secretary.

[FR Doc. 03-17502 Filed 7-9-03; 8:45 am]

BILLING CODE 6717-01-P